DEPARTMENT OF THE INTERIOR

Fish and Wildlife Service

50 CFR Part 17

[Docket No. FWS-R6-ES-2016-0086; 4500030113]

RIN 1018-BB52

Endangered and Threatened Wildlife and Plants; 12-Month Finding on a Petition to List the Western Glacier Stonefly as an Endangered or Threatened Species; Proposed Threatened Species Status for Meltwater Lednian Stonefly and Western Glacier Stonefly

AGENCY: Fish and Wildlife Service, Interior.

ACTION: Proposed rule; reopening of the comment period.

SUMMARY: We, the U.S. Fish and Wildlife Service (Service), announce the reopening of the comment period on our October 4, 2016, proposed rule to list the western glacier stonefly (Zapada glacier) and the meltwater lednian stonefly (Lednia tumana) as threatened species under the Endangered Species Act of 1973, as amended (Act). We are reopening the comment period because we have received additional information about the range of the western glacier stonefly and reopening the comment period will provide the public an opportunity to comment on the additional range information. In August 2016, we received new information on the western glacier stonefly, indicating a larger range than previously known. In March 2017, we again received additional information (separate from the information received in August 2016) regarding the western glacier stonefly range, also indicating a larger range than previously known. We invite the public to comment on this additional information.

DATES: The comment period on the October 4, 2016, proposed rule (81 FR 68379) is reopened. Comments should be received on or before November 30, 2017. Comments submitted electronically using the Federal eRulemaking Portal (see ADDRESSES, below) must be received by 11:59 p.m. Eastern Time on the closing date.

ADDRESSES: You may submit comments by one of the following methods:

(1) Electronically: Go to the Federal eRulemaking Portal: http://www.regulations.gov. In the Search box, enter FWS-R6-ES-2016-0086, which is the docket number for this rulemaking. Then, in the Search panel on the left side of the screen, under the Document Type heading, click on the Proposed Rules link to locate this document. You may submit a comment by clicking on “Comment Now!”

(2) By hard copy: Submit by U.S. mail or hand-delivery to: Public Comments Processing, Attn: FWS-R6-ES-2016-0086, U.S. Fish and Wildlife Service, MS: BPHC, 5275 Leesburg Pike, Falls Church, VA 22041-3803.

We request that you send comments only by the methods described above. We will post all comments on http://www.regulations.gov. This generally means that we will post any personal information you provide us (see Public Comments, below, for more information).

Document availability: You may view the October 4, 2016, proposed rule and supporting materials associated with this reopened public comment period and described below under SUPPLEMENTARY INFORMATION at http://www.regulations.gov under Docket No. FWS-R6-ES-2016-0086, or from the office listed in FOR FURTHER INFORMATION CONTACT.

FOR FURTHER INFORMATION CONTACT: Jodi Bush, Field Supervisor, U.S. Fish and Wildlife Service, Montana Ecological Services Field Office, 585 Shepard Way, Helena, MT 59601; telephone 406-449-5225; facsimile 406-449-5339; jodi_bush@fws.gov. Persons who use a telecommunications device for the deaf (TDD) may call the Federal Relay Service at 800-877-8339.

SUPPLEMENTARY INFORMATION:

Information Requested

Public Comments

We will accept written comments and information during this reopened comment period regarding the new information indicating additional streams and springs occupied by the western glacier stonefly (Giersch et al. 2016, entire; Giersch 2017, pers. comm.) as described in this document. We will also accept written comments and information on our proposed rule to list the western glacier stonefly and the meltwater lednian stonefly as threatened species under the Act that was published in the Federal Register on October 4, 2016 (81 FR 68379). We will consider information and recommendations from all interested parties.

In addition, we continue to seek comments on the following topics as requested in our October 4, 2016, proposed rule (81 FR 68379):

(1) The meltwater lednian stonefly and the western glacier stonefly biology, range, and population trends, including:

(a) Biological or ecological requirements of the species, including habitat requirements for feeding, breeding, and sheltering;

(b) Genetics and taxonomy;

(c) Historical and current range, including distribution patterns;

(d) Historical and current population levels, and current and projected trends; and

(e) Past and ongoing conservation measures for the species, their habitat, or both.

(2) Factors that may affect the continued existence of the species, which may include habitat modification or destruction, overutilization, disease, predation, the inadequacy of existing regulatory mechanisms, or other natural or manmade factors.

(3) Biological, commercial trade, or other relevant data concerning any threats (or lack thereof) to these species and existing regulations that may be addressing those threats.

(4) Additional information concerning the historical and current status, range, distribution, and population size of these species, including the locations of any additional populations.

If you submitted comments or information on the proposed rule (81 FR 68379) during the initial comment period from October 4, 2016, to December 5, 2016, please do not resubmit them. Any such comments are incorporated as part of the public record of this rulemaking proceeding, and we will fully consider them in the preparation of our final determination. Our final determination will take into consideration all written comments and any additional information we receive during all comment periods. The final decision may differ from the proposed rule, based on our review of all information received during this rulemaking proceeding.

Please include sufficient information with your submission (such as scientific journal articles or other publications) to allow us to verify any scientific or commercial information you include. Please note that submissions merely stating support for or opposition to the action under consideration without providing supporting information, although noted, will not be considered in making a determination, as section 4(b)(1)(A) of the Act directs that determinations as to whether any species is an endangered or a threatened species must be made “solely on the basis of the best scientific and commercial data available.”

You may submit your comments and materials concerning the proposed rule by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing the proposed rule, will be available for public inspection on http://www.regulations.gov, or by appointment, during normal business hours, at the U.S. Fish and Wildlife Service, Montana Ecological Services Field Office (see FOR FURTHER INFORMATION CONTACT).

Peer Review

In accordance with our joint policy on peer review published in the Federal Register on July 1, 1994 (59 FR 34270), we sought the expert opinions of six appropriate and independent specialists regarding the proposed rule, including the new information discussed in this document, and received comments or peer reviews from four peer reviewers. The purpose of peer review is to ensure that our listing determinations are based on scientifically sound data, assumptions, and analyses. The peer reviewers have expertise in stonefly biology, habitat, and life history.

Background

Species Information and Previous Federal Actions

On October 4, 2016, we published a 12-month finding for the western glacier stonefly and a proposed rule to list the western glacier stonefly and meltwater lednian stonefly as threatened species under the Act (81 FR 68379). We combined the 12-month finding and proposed rule in one document for efficiency. Please refer to that proposed rule for information about western glacier stonefly and meltwater lednian stonefly taxonomy, descriptions of the two species, distribution and abundance, habitat, and biology, as well as a detailed description of previous Federal actions concerning the western glacier stonefly and meltwater lednian stonefly prior to October 4, 2016. As discussed in our proposed rule, we became aware of information in August 2016 indicating additional streams and springs occupied by western glacier stonefly in southwestern Montana and northwestern Wyoming. Furthermore, in March 2017, we became aware of additional information on western glacier stonefly, indicating a larger range than previously known. This new information from August 2016 and March 2017 is described below.

New Information

We received updated information on the distribution of western glacier stonefly from the United States Geological Survey (USGS) on August 22, 2016. This information was included in a final report to the Service examining the status, distribution, and ecology of the meltwater lednian stonefly and the western glacier stonefly (Giersch et al. 2016, entire). In this report, USGS documented western glacier stonefly approximately 500 miles farther south than previously known (Giersch et al. 2016, p. 28). These southern streams and springs were in the Absaroka-Beartooth Wilderness in southern Montana and in Grand Teton National Park in northwestern Wyoming. On March 22, 2017, we again received updated information on the distribution of western glacier stonefly from the USGS. This information was from field surveys conducted in late 2016. These surveys identified additional occupied streams and springs of western glacier stonefly in southern Montana and northwestern Wyoming (in the Absaroka-Beartooth Wilderness and Grand Teton National Park; Figure 1).

In addition, a study funded by the Wyoming Natural Diversity Database estimated the degree to which western glacier stonefly were genetically different amongst the three mountain ranges (Glacier National Park, Absaroka-Beartooth Wilderness, and Grand Teton National Park) (Hotaling et al. 2017, p. 11). Although the study noted that there is evidence of significant genetic differentiation amongst western glacier stonefly populations residing in the different mountain ranges, the authors do not believe the evidence supports multiple species designations (Hotaling et al. 2017, p. 12). As a result of the additional range information and genetics report, we are now aware of a total of 16 occupied streams or springs of western glacier stonefly rangewide (Montana and Wyoming).

BILLING CODE 4333-15-P

BILLING CODE 4333-15-C

References Cited

A complete list of references cited in this document is available on the Internet at http://www.regulations.gov at Docket No. FWS-R6-ES-2016-0086 and upon request from the Montana Ecological Services Field Office (see FOR FURTHER INFORMATION CONTACT).

Authors

The primary authors of this document are the staff members of the Montana Ecological Services Field Office.

Authority

The authority for this action is the Endangered Species Act of 1973, as amended (16 U.S.C. 1531 et seq.).

Dated: September 28, 2017.
James W. Kurth,
Acting Director, U.S. Fish and Wildlife Service.

[FR Doc. 2017-23579 Filed 10-30-17; 8:45 am]

BILLING CODE 4333-15-P